NUCLEAR REGULATORY COMMISSION

[NRC-2009-0304]

Guidance for the Assessment of Beyond-Design-Basis Aircraft Impacts

AGENCY: Nuclear Regulatory Commission.

ACTION: Regulatory guide; issuance.

SUMMARY: The U.S. Nuclear Regulatory Commission (NRC or Commission) is issuing a new guide regulatory guide, (RG) 1.217, “Guidance for the Assessment of Beyond-Design-Basis Aircraft Impacts.” This guide describes a method that the staff of NRC considers acceptable for use in satisfying its regulations regarding the consideration of aircraft impacts for new nuclear power reactors.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory guide is available electronically under ADAMS Accession Number ML092900004. The regulatory analysis may be found in ADAMS under Accession No. ML112101610.

• Federal Rulemaking Web Site: Public comments and supporting materials related to this regulatory guide can be found at http://www.regulations.gov by searching on Docket ID NRC-2009-0304.

Regulatory guides are not copyrighted, and Commission approval is not required to reproduce them.

FOR FURTHER INFORMATION CONTACT: Mekonen M. Bayssie, Regulatory Guide Development Branch, Division of Engineering, Office of Nuclear Regulatory Research, U.S. Nuclear Regulatory Commission, Washington, DC 20555-0001, telephone 301-251-7489 or e-mail to Mekonen.Bayssie@nrc.gov.

SUPPLEMENTARY INFORMATION:

I. Introduction

The Nuclear Regulatory Commission (NRC or Commission) is issuing a new guide in the agency=s “Regulatory Guide” series. This series was developed to describe and make available to the public information such as methods that are acceptable to the NRC staff for implementing specific parts of the agency's regulations, techniques that the staff uses in evaluating specific problems or postulated accidents, and data that the staff needs in its review of applications for permits and licenses.

This guide endorses the methodologies described in the industry guidance document, Nuclear Energy Institute (NEI) 07-13, “Methodology for Performing Aircraft Impact Assessments for New Plant Designs,” Revision 8, issued April 2011. The public version of NEI 07-13 can be found in the NRC's Agencywide Documents Access and Management System (ADAMS), Accession No. ML091490723.

II. Further Information

DG-1176 was published in the Federal Register on July 10, 2009 (74 FR 33282), for a 60-day public comment period. The public comment period closed on September 8, 2009. No comments were submitted during this period. Electronic copies of Regulatory Guide 1.217 are available through the NRC's public Web site under “Regulatory Guides” at http://www.nrc.gov/reading-rm/doc-collections/.

Dated at Rockville, Maryland, this 5th day of August 2011.
For the Nuclear Regulatory Commission.
Edward O'Donnell,
Acting Chief, Regulatory Guide Development Branch, Division of Engineering, Office of Nuclear Regulatory Research.

[FR Doc. 2011-20513 Filed 8-11-11; 8:45 am]

BILLING CODE 7590-01-P